DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Large Pelagics Fishing Survey.

OMB Control Number: 0648-0380.

Form Number(s): NA.

Type of Request: Regular submission (revision and extension of a current information collection).

Number of Respondents: 15,024.

Average Hours per Response: Large pelagics telephone survey, 11 minutes; large pelagics intercept survey, 5 minutes; telephone validation survey, 1 minute, 30 seconds; large pelagics biological survey, 1 minute.

Burden Hours: 3,608.

Needs and Uses: This request is for revision and extension of a current information collection.

The Large Pelagic Fishing Survey consists of dockside and telephone surveys of recreational anglers for large pelagic fish (tunas, sharks, and billfish) in the Atlantic Ocean. The survey provides the National Marine Fisheries Service (NMFS) with information to monitor catch of bluefin tuna, marlin and other federally managed species. Catch monitoring in these fisheries and collection of catch and effort statistics for all pelagic fish is required under the Atlantic Tunas Convention Act and the Magnuson-Stevens Fishery Conservation and Management Act. The information collected is essential for the United States (U.S.) to meet its reporting obligations to the International Commission for the Conservation of Atlantic Tuna.

This action seeks to revise the Large Pelagic Fishing Survey in the following ways:

• Drop the Large Pelagics Headboat Survey (LPHS) component.

• Increase the annual Large Pelagics Telephone Survey (LPTS) target sample size from 10,780 to 15,900 interviews for Northeast and Southeast combined.

• Add up to five questions to the LPTS questionnaire.

• Add a non-response follow-up survey to the LPTS in the Southeast region (previously only the Northeast was covered).

• Reduce the Large Pelagics Biological Survey annual sample size from 1,500 to 1,000 interviews.

Affected Public: Business or other for-profit organizations; individuals or households.

Frequency: Biweeekly or annually.

Respondent's Obligation: Mandatory.

This information collection request can be viewed at http://www.reginfo.gov. Follow the instructions to review Department of Commerce collections currently under review.

Written comments and recommendations for the proposed information collection should be sent within 30 days of publication of this notice to OIRA_Submission@omb.eop.gov or fax no. (202) 395-5806.

Dated: February 18, 2014.
Gwellnar Banks,
Management Analyst, Office of the Chief Information Officer.

[FR Doc. 2014-03751 Filed 2-21-14; 8:45 am]

BILLING CODE 3510- 22-P